DEPARTMENT OF TRANSPORTATION

National Highway Traffic Safety Administration

[Docket No. NHTSA-2016-0097]

Public Meeting Regarding NHTSA's Research Portfolio

AGENCY: National Highway Traffic Safety Administration (NHTSA), Department of Transportation.

ACTION: Announcement of public meeting.

SUMMARY: NHTSA is announcing a public meeting to present information describing our vehicle and behavioral safety research portfolio and outline the activities we plan to pursue over the next 12 to 16 months. Each year, NHTSA executes a broad array of research in the areas of crash avoidance, electronics systems safety, biomechanics, crashworthiness, and behavioral research. The purpose of this meeting is to present and describe research projects in these areas that the agency will be focusing on to enhance safety.

DATES: NHTSA will hold the public meeting on September 27, 2016, in Detroit, MI. The meeting will start at 10:00 a.m. and continue until 4:00 p.m., local time. Check-in (through security) will begin at 9 a.m.

ADDRESSES: The meeting will be held at the Patrick V. McNamara Federal Building located at 477 Michigan Avenue, Detroit, MI 48226, Bottom Floor. This facility is accessible to individuals with disabilities.

FOR FURTHER INFORMATION CONTACT: If you have questions about the public meeting, please contact Inez Finley at 937-666-3289, by email at Inez.finley@dot.gov, or by U.S. Mail at NHTSA's Vehicle Research & Test Center, P.O. Box B37, Building 60, 10820 State Route 347, East Liberty, Ohio 43319.

Registration is necessary for all attendees. Attendees should register at https://goo.gl/forms/FEO60sf0tOQDBqlU2 by September 22, 2016. Please provide name, affiliation, email, and indicate whether you require accommodations such as a sign language interpreter. Space is limited, so advanced registration is highly encouraged.

Should it be necessary to cancel the meeting due to inclement weather or other emergency, NHTSA will take all available measures to notify registered participants.

NHTSA will conduct the public meeting informally, and technical rules of evidence will not apply. We will arrange for a written transcript of the meeting and keep the official record open for 30 days after the meeting to allow submission of public comments. You may make arrangements for copies of the transcripts directly with the court reporter, and the transcript will also be posted in the docket when it becomes available.

Written Comments: Attendees are welcome to submit written comments and other supporting information during the 30 day comment period. Please submit all written comments no later than October 27, 2016 by any of the following methods:

• Federal Rulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, Washington, DC 20590-0001, between 9 a.m. and 5 p.m. ET, Monday through Friday, except Federal Holidays.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE., West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/privacy.html.

Confidential Business Information: If you wish to submit any information under a claim of confidentiality, you should submit three copies of your complete submission, including the information you claim to be confidential business information to the Chief Counsel, NHTSA, at 1200 New Jersey Avenue SE., Washington, DC 20590. In addition, you should submit two copies, from which you have deleted the claimed confidential business information, to Docket Management at the address given above. When you send a comment containing information claimed to be confidential business information, you should submit a cover letter setting forth the information specified in our confidential business information regulation (49 CFR part 512).

SUPPLEMENTARY INFORMATION:

Background

Each year, NHTSA executes a broad array of research in the areas of crash avoidance, electronics systems safety, biomechanics, crashworthiness, and behavioral research. The purpose of this meeting is to present and describe research projects in these areas that the agency will be focusing on over the next year or more to enhance vehicle safety. For more information on NHTSA's research programs, please visit our Web site at: www.nhtsa.gov.

Draft Agenda

09:00-10:00—Arrival/Check-In

10:00-12:00—Morning Public Meeting Session (Crash Avoidance and Electronic Systems Safety Research)

12:00-13:00—Lunch Break

13:00-15:30—Afternoon Public Meeting Session (Biomechanics, Crashworthiness and Behavioral Safety Research)

15:30-16:00—Open discussion (Q&A)

16:00—Adjourn

Public Meeting Topics

NHTSA will provide information on the following topics during the morning and afternoon sessions of the meeting.

• Crash Avoidance Research (driver assistance systems, human factors)

• Electronic Systems Safety/Emerging Technologies Research (electronics reliability, cybersecurity, automated vehicles)

• Biomechanics/Human Injury Research

• Crashworthiness/Occupant Protection Research

• Behavioral Safety Research

Issued in Washington DC on: September 13, 2016 under authority delegated by 49 CFR 1.95.
Nathaniel Beuse,
Associate Administrator for Vehicle Safety Research.

[FR Doc. 2016-22382 Filed 9-16-16; 8:45 am]

BILLING CODE 4910-59-P